DEPARTMENT OF THE INTERIOR

Fish and Wildlife Service

[FWS-R2-ES-2011-N145; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before September 2, 2011.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave., SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-800611

Applicant: SWCA Inc, San Antonio, Texas.

Applicant requests a new permit for research and recovery purposes to conduct presence/absence surveys for the following species within Texas:

• Ocelot (Leopardus pardalis).

• Jaguarundi (Herpailurus yagouaroundi).

• Golden-cheeked warbler (Dendroica chrysoparia).

• Black-capped vireo (Vireo atricapilla).

• Interior least tern (Sterna antillarum athalassos).

• Northern aplomado falcon (Falco femoralis septentrionalis).

• Red-cockaded woodpecker (Picoides borealis).

• Houston toad (Bufo houstonensis).

• Barton Springs salamander (Eurycea sosorum).

• San Marco salamander (Eurycea nana).

• Texas blind salamander (Typhlomolge rathbuni).

• Fountain darter (Etheostoma fonticola).

• Two ground beetles without common names (Rhadine exilis and Rhadine infernalis).

• Helotes mold beetle (Batrisodes venyivi).

• Cokendolpher Cave harvestman (Texella cokendolpheri),

• Robber Baron Cave meshweaver (Cicurina baronia).

• Madla Cave meshweaver (Cicurina madla).

• Bracken Bat Cave meshweaver (Cicurina venii).

• Government Canyon Bat Cave meshweaver (Cicurina vespera).

• Government Canyon Bat Cave spider (Neoleptoneta microps).

• Tooth Cave spider (Neoleptoneta myopica).

• Tooth Cave pseudoscorpion (Tartarocreagris texana).

• Bee Creek Cave harvestman (Texella reddelli).

• Kretschmarr Cave mold beetle (Texamaurops reddelli).

• Tooth Cave ground beetle (Rhadine persephone).

• Bone Cave harvestman (Texella reyesi).

• Coffin Cave mold beetle (Batrisodes texanus) .

Permit TE-170625

Applicant: Daniel Howard, Sioux Falls, South Dakota.

Applicant requests an amendment to a current permit for research and recovery purposes to conduct presence/absence surveys for American burying beetle (Nicrophorus americanus) within Texas, South Dakota, Nebraska, Kansas, Arkansas, and Missouri.

Permit TE-150490

Applicant: New Mexico Energy Minerals and Natural Resources Department, Santa Fe, New Mexico.

Applicant requests a new permit for research and recovery purposes to collect voucher specimens and seeds from the following species within New Mexico:

• Argemone pleiacantha ssp. pinnatisecta (Sacramento prickly poppy).

• Astragalus humillimus (Mancos milk-vetch).

• Cirsium vinaceum (Sacramento Mountains thistle).

• Coryphantha sneedii var. leei (Lee pincushion cactus).

• Coryphantha sneedii var sneedii (Sneed pincushion cactus).

• Echinocereus fendleri var. kuenzleri (Kuenzler hedgehog cactus).

• Erigeron rhizomatus (Zuni fleabane).

• Eriogonum gypsophilum (Gypsum wild buckwheat).

• Hedeoma todsenii (Todsen's pennyroyal).

• Helianthus paradoxus (Pecos sunflower).

• Ipomopsis sancti-spiritus (Holy Ghost ipomopsis).

• Pediocactus knowltonii (Knowlton cactus).

• Sclerocactus mesae-verdae (Mesa Verde cactus) .

Permit TE-842565

Applicant: Cibola National Forest, Albuquerque, New Mexico.

Applicant requests an amendment to a current permit for research and recovery purposes to conduct presence/absence surveys for southwestern willow flycatcher (Empidonax traillii extimus) within New Mexico.

Permit TE-46978A

Applicant: U.S. Department of Agriculture, North Central Plant Introduction Station, Ames, Iowa.

Applicant requests a new permit for research and recovery purposes to collect and distribute for reintroduction seeds from Helianthus paradoxus (Pecos sunflower) from plants in New Mexico.

Authority: 16 U.S.C. 1531 et seq.

Dated: ;July 28, 2011.
Joy E. Nicholopoulos,
Regional Director, Southwest Region, Fish and Wildlife Service.

[FR Doc. 2011-19621 Filed 8-2-11; 8:45 am]

BILLING CODE 4310-55-P